DEPARTMENT OF ENERGY

Federal Energy Regulatory Commission

Combined Notice of Filings # 1

September 28, 2007.

Take notice that the Commission received the following electric corporate filings:

Docket Numbers: EC07-135-000.

Applicants: Plains End, LLC; Plains End II, LLC; Rathdrum Power, LLC; Quachita Power, LLC.

Description: Application for authorization for disposition of jurisdictional facilities and request for expedited action re Plains End, LLC et al.

Filed Date: 09/24/2007.

Accession Number: 20070926-0116.

Comment Date: 5 p.m. Eastern Time on Monday, October 15, 2007.

Take notice that the Commission received the following exempt wholesale generator filings:

Docket Numbers: EG07-88-000.

Applicants: Snyder Wind Farm, LLC.

Description: Notice of Self-Certification of Exempt Wholesale Generator Status for Snyder Wind Farm, LLC.

Filed Date: 09/27/2007.

Accession Number: 20070927-5021.

Comment Date: 5 p.m. Eastern Time on Thursday, October 18, 2007.

Docket Numbers: EG07-89-000.

Applicants: FPL Energy Point Beach, LLC.

Description: Notice of Self-Certification of Exempt Wholesale Generator Status of FPL Energy Point Beach, LLC.

Filed Date: 09/28/2007.

Accession Number: 20070928-5006.

Comment Date: 5 p.m. Eastern Time on Friday, October 19, 2007.

Take notice that the Commission received the following electric rate filings:

Docket Numbers: ER05-17-009.

Applicants: Trans-Elect NTD Path 15, LLC.

Description: Atlantic Path 15 submits for filing its refund report.

Filed Date: 09/27/2007.

Accession Number: 20070927-5009.

Comment Date: 5 p.m. Eastern Time on Thursday, October 18, 2007.

Docket Numbers: ER07-1093-001.

Applicants: Southwest Power Pool, Inc.

Description: Southwest Power Pool, Inc. submits a revised executed service agreement for Network Integration Transmission Service with Westar Energy, Inc.

Filed Date: 09/25/2007.

Accession Number: 20070927-0115.

Comment Date: 5 p.m. Eastern Time on Tuesday, October 16, 2007.

Docket Numbers: ER07-1126-001; ER07-1126-002.

Applicants: Niagara Mohawk Power Corporation.

Description: Niagara Mohawk submits information in response to FERC's letter dated 8/21/07 and on 9/25/07submits errata to its 9/20/07 filing.

Filed Date: 09/20/2007; 09/25/2007.

Accession Number: 20070924-0318; 20070926-0191.

Comment Date: 5 p.m. Eastern Time on Thursday, October 11, 2007.

Docket Numbers: ER07-1163-001.

Applicants: Puget Sound Energy, Inc.

Description: Puget Sound Energy, Inc. submits a compliance filing re Second Revised Sheet 166 to FERC Electric Tariff, Eighth Revised Volume 1, to be effective 7/13/07.

Filed Date: 09/26/2007.

Accession Number: 20070928-0083.

Comment Date: 5 p.m. Eastern Time on Wednesday, October 17, 2007.

Docket Numbers: ER07-1374-001.

Applicants: South Carolina Electric & Gas Company.

Description: South Carolina Electric & Gas Co submits an executed Industrial Tap Agreement with the City of Orangeburg, South Carolina.

Filed Date: 09/27/2007.

Accession Number: 20070928-0081.

Comment Date: 5 p.m. Eastern Time on Thursday, October 18, 2007.

Docket Numbers: ER07-1399-000.

Applicants: PJM Interconnection, L.L.C.

Description: PJM Interconnection, LLC submits two executed interconnection service agreements with Conectiv Delmarva Generation, Inc & Old Dominion Electric Coop.

Filed Date: 09/25/2007.

Accession Number: 20070927-0116.

Comment Date: 5 p.m. Eastern Time on Tuesday, October 16, 2007.

Docket Numbers: ER07-1400-000.

Applicants: The United Illuminating Company.

Description: The United Illuminating Co submits proposed modifications to Schedule 21-UI of the ISO New England Inc Transmission Tariff.

Filed Date: 09/25/2007.

Accession Number: 20070926-0159.

Comment Date: 5 p.m. Eastern Time on Tuesday, October 16, 2007.

Docket Numbers: ER07-1401-000.

Applicants: WSPP Inc.

Description: Western Systems Power Pool, Inc submits a request to amend the WSPP Agreement to include ArcLight Energy Marketing, LLC et al.

Filed Date: 09/26/2007.

Accession Number: 20070928-0084.

Comment Date: 5 p.m. Eastern Time on Wednesday, October 17, 2007.

Docket Numbers: ER07-1402-000; ES07-66-000.

Applicants: Allegheny Generating Company.

Description: Allegheny Generating Co submits First Revised Rate Schedule 1 as an amended version of the Power Sales Agreement.

Filed Date: 09/26/2007.

Accession Number: 20070928-0085.

Comment Date: 5 p.m. Eastern Time on Wednesday, October 17, 2007.

Docket Numbers: ER07-1403-000.

Applicants: Pacific Gas and Electric Company.

Description: Pacific Gas and Electric Co submits an executed Transmission Facilities Agreement with Alameda Power And Telecom.

Filed Date: 09/27/2007.

Accession Number: 20070928-0082.

Comment Date: 5 p.m. Eastern Time on Thursday, October 18, 2007.

Docket Numbers: ER07-1404-000.

Applicants: Southern California Edison Company.

Description: Southern California Edison submits a Letter Agreement with BrightSource Energy, Inc.

Filed Date: 09/27/2007.

Accession Number: 20070928-0080.

Comment Date: 5 p.m. Eastern Time on Thursday, October 18, 2007.

Docket Numbers: ER07-1405-000.

Applicants: New York Independent System Operator, Inc.

Description: New York Independent System Operator, Inc submits proposed revisions to its Market Administration and Control Area Services Tariff to remove outdated and unnecessary language from Rate Schedule 2.

Filed Date: 09/27/2007.

Accession Number: 20070928-0079.

Comment Date: 5 p.m. Eastern Time on Thursday, October 18, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Acting Deputy Secretary.

[FR Doc. E7-19727 Filed 10-5-07; 8:45 am]

BILLING CODE 6717-01-P